DEPARTMENT OF STATE

[Public Notice: 12282]

30-Day Notice of Proposed Information Collection: Statement of Exigent/Special Family Circumstances for Issuance of a U.S. Passport to a Child Under Age 16

ACTION: Notice of request for public comments.

SUMMARY: The Department of State has submitted the information collections described below to the Office of Management and Budget (OMB) for approval. In accordance with the Paperwork Reduction Act of 1995, we are requesting comments on these collections from all interested individuals and organizations. The purpose of this Notice is to allow 30 days for public comment.

DATES: The Department will accept comments from the public up to January 8, 2024.

ADDRESSES: Written comments and recommendations for the proposed information collection should be sent within 30 days of publication of this notice to: www.reginfo.gov/public/do/PRAMain. Find this information collection by selecting “Currently under 30-day Review—Open for Public Comments” or by using the search function. You must include the DS form number, information collection title, and the OMB control number in any correspondence (if applicable). You may send requests for additional information regarding the collection listed in this notice, including requests for copies of the proposed collection instrument and supporting documents, to the following email address: Passport-Form-Comments@State.gov. You must include the DS form number and information collection title in the email subject line.

SUPPLEMENTARY INFORMATION:

• Title of Information Collection: Statement of Exigent/Special Family Circumstances for Issuance of a U.S. Passport to a Child Under Age 16.

• OMB Control Number: 1405-0216.

• Type of Request: Revision of a Currently Approved Collection.

• Originating Office: Bureau of Consular Affairs, Passport Services (CA/PPT).

• Form Number: DS-5525.

• Respondents: Individuals or Households.

• Estimated Number of Respondents: 28,933.

• Estimated Number of Responses: 28,933.

• Average Time per Response: 30 minutes.

• Total Estimated Burden Time: 14,467 hours per year.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected on the DS-5525, Statement of Exigent/Special Family Circumstances for Issuance of a U.S. Passport to a Child under Age 16, is used in conjunction with the DS-11, Application for a U.S. Passport. The DS-5525 can serve as the statement describing exigent or special family circumstances, which is required if written consent of the non-applying parent or guardian cannot be obtained when the passport application is executed for a child under age 16.

Methodology

Passport Services collects information from U.S. citizens and non-citizen nationals when they complete and submit the DS-5525, Statement of Exigent/Special Family Circumstances for Issuance of a U.S. Passport to a Child under Age 16. Passport applicants can either download the DS-5525 from the internet travel.state.gov or obtain the form from an acceptance facility/passport agency. The form must be completed, signed, and submitted along with the applicant's DS-11, Application for a U.S. Passport.

Matthew D Pierce,
Managing Director for Passport Support Operations, Bureau of Consular Affairs, Passport Services, Department of State.

[FR Doc. 2023-27021 Filed 12-7-23; 8:45 am]

BILLING CODE 4710-06-P